DEPARTMENT OF COMMERCE

National Oceanic and Atmospheric Administration

[RTID 0648-XE875]

Marine Mammals; File No. 28810

AGENCY: National Marine Fisheries Service (NMFS), National Oceanic and Atmospheric Administration (NOAA), Commerce.

ACTION: Notice; receipt of application.

SUMMARY: Notice is hereby given that NMFS Marine Mammal Laboratory, 7600 Sand Point Way NE, Seattle, WA 98115 (Responsible Party: John Bengtson, Ph.D.), has applied in due form for a permit to conduct research on pinnipeds.

DATES: Written comments must be received on or before August 25, 2025.

ADDRESSES: The application and related documents are available for review by selecting “Records Open for Public Comment” from the “Features” box on the Applications and Permits for Protected Species home page, https://apps.nmfs.noaa.gov, and then selecting File No. 28810 from the list of available applications. These documents are also available upon written request via email to NMFS.Pr1Comments@noaa.gov.

Written comments on this application should be submitted via email to NMFS.Pr1Comments@noaa.gov. Please include File No. 28810 in the subject line of the email comment.

Those individuals requesting a public hearing should submit a written request via email to NMFS.Pr1Comments@noaa.gov. The request should set forth the specific reasons why a hearing on this application would be appropriate.

FOR FURTHER INFORMATION CONTACT: Sara Young or Shasta McClenahan, Ph.D., (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The applicant proposes to take six species of pinnipeds, including ESA-listed Guadalupe fur seals (Arctocephalus townsendi), and potential hybrids, along the U.S. west coast in the course of research to meet the mandates of the MMPA and ESA by improving NMFS' understanding of west coast pinniped species through monitoring population abundance and trends, health, and behavior. Research activities include: aerial, vessel, and ground surveys, photography/videography, capture and handling, and collection of scat and spew. Procedures to be performed on capture and/or handled individuals may include: drug administration, anesthesia, instrumentation, biopsy, marking (including hot branding); measuring, restraint, biological sampling, and weighing. Parts may be salvaged from mortalities that occur during research or carcasses encountered during research activities. Parts collected under this permit may be exported and imported for analysis, and parts may be imported from Canadian or Mexican collaborators. Conspecifics may be unintentionally harassed during research. The permit includes unintentional mortality for five target species, and hybrids, as well as intentional mortality of California sea lions (Zalophus californianus) to study premature and moribund pups. See the application for detailed numbers by species and procedure. The permit would be valid for 10 years from the date of issuance.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: July 22, 2025.
Shannon Bettridge,
Chief, Marine Mammal and Sea Turtle Conservation Division, Office of Protected Resources, National Marine Fisheries Service.

[FR Doc. 2025-14021 Filed 7-24-25; 8:45 am]

BILLING CODE 3510-22-P